Title 3—

The President

Proclamation 8508 of April 29, 2010

Asian American and Pacific Islander Heritage Month, 2010

By the President of the United States of America

A Proclamation

For centuries, America’s story has been tied to the Pacific. Generations of brave men and women have crossed this vast ocean, seeking better lives and opportunities, and weaving their rich heritage into our cultural tapestry. During Asian American and Pacific Islander Heritage Month, we celebrate the immeasurable contributions these diverse peoples have made to our Nation.

Asian Americans and Pacific Islanders have shared common struggles throughout their histories in America—including efforts to overcome racial, social, and religious discrimination. This year marks the 100th anniversary of the Angel Island Immigration Station in San Francisco Bay, a milestone that reminds us of an unjust time in our history. For three decades, immigrants from across the Pacific arrived at Angel Island, where they were subject to harsh interrogations and exams, and confined in crowded, unsanitary barracks. Many who were not turned back by racially prejudiced immigration laws endured hardship, injustice, and deplorable conditions as miners, railroad builders, and farm workers.

Despite these obstacles, Asian Americans and Pacific Islanders have persevered and flourished, achieving success in every sector of American life. They stood shoulder to shoulder with their fellow citizens during the civil rights movement; they have served proudly in our Armed Forces; and they have prospered as leaders in business, academia, and public service.

This month, as we honor all Americans who trace their ancestry to Asia and the Pacific Islands, we must acknowledge the challenges they still face. Today, many Asian American and Pacific Islander families experience unemployment and poverty, as well as significant education and health disparities. They are at high risk for diabetes and hepatitis, and the number of diagnoses for HIV/AIDS has increased in recent years.

We must recognize and properly address these critical concerns so all Americans can reach their full potential. That is why my Administration reestablished both the White House Initiative and the President’s Advisory Commission on Asian Americans and Pacific Islanders (AAPI). These partnerships include leaders from across our Government and the AAPI community, dedicated to improving the quality of life and opportunities for Asian Americans and Pacific Islanders.

Asian Americans and Pacific Islanders are a vast and diverse community, some native to the United States, hailing from Hawaii and our Pacific Island territories. Others trace their heritage to dozens of countries. All are treasured citizens who enrich our Nation in countless ways, and help fulfill the promise of the American dream which has drawn so many to our shores.

NOW, THEREFORE, I, BARACK OBAMA, President of the United States of America, by virtue of the authority vested in me by the Constitution and the laws of the United States, do hereby proclaim May 2010, as Asian American and Pacific Islander Heritage Month. I call upon all Americans to learn more about the history of Asian Americans and Pacific Islanders, and to observe this month with appropriate programs and activities.

IN WITNESS WHEREOF, I have hereunto set my hand this twenty-ninth day of April, in the year of our Lord two thousand ten, and of the Independence of the United States of America the two hundred and thirty-fourth.

[FR Doc. 2010-10728

Filed 5-4-10; 8:45 am]

Billing code 3195-W0-P